FEDERAL COMMUNICATIONS COMMISSION

47 CFR Part 73

[DA 02-3505; MB Docket No. 02-274, RM-10560; MB Docket No. 02-275, RM-10561]

Radio Broadcasting Services; Jasper, FL and Tigerton, WI

AGENCY: Federal Communications Commission.

ACTION: Final rule.

SUMMARY: The Audio Division, at the request of Powerline NA, Inc., allots Channel 298A at Jasper, Florida, as the community's first local FM transmission service. See 67 FR 63876, October 16, 2002. Channel 298A can be allotted to Jasper in compliance with the Commission's minimum distance separation requirements with a site restriction 2.2 kilometers (1.4 miles) northwest of the community to avoid a short-spacing to the vacant allotment site of Channel 299C3, Perry, Florida. The reference coordinates for Channel 298A at Jasper are 30-31-49 North Latitude and 82-57-58 West Longitude. The Audio Division, at the request of Starboard Broadcasting, Inc. allots Channel 295A at Tigerton, Wisconsin, as the community's first local FM transmission service. See 67 FR 63876, October 16, 2002. Channel 295A can be allotted to Tigerton in compliance with the Commission's minimum distance separation requirements with a site restriction of 14.1 kilometers (8.7 miles) northeast to avoid a short-spacing to the license sites of Station WLJY, Channel 293C1, Marshfield, Wisconsin, Station WJLW, Channel 294C3, Allouez, Wisconsin, and Station WUPM, Channel 295C1, Ironwood, Michigan. The reference coordinates for Channel 295A at Tigerton are 44-50-07 North Latitude and 88-56-41 West Longitude. Filing windows for Channel 298A at Jasper, Florida and Channel 295A at Tigerton, Wisconsin, will not be opened at this time. Instead, the issue of opening a filing window for these channels will be addressed by the Commission in a subsequent order.

DATES: Effective February 3, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 02-274 and 02-275, adopted December 18, 2002, and released December 20, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Florida, is amended by adding Jasper, Channel 298A.

3. Section 73.202(b), the Table of FM Allotments under Wisconsin, is amended by adding Tigerton, Channel 295A.

Federal Communications Commission.
John A. Karousos,
Assistant Chief, Audio Division, Media Bureau.

[FR Doc. 03-169 Filed 1-3-03; 8:45 am]

BILLING CODE 6712-01-P